DEPARTMENT OF TRANSPORTATION

National Highway Traffic Safety Administration

49 CFR Part 533

[Docket No. 2002-11419; Notice 3]

RIN 2127-AI70

Light Truck Average Fuel Economy Standards Model Years 2005-07; Correction

AGENCY: National Highway Traffic Safety Administration (NHTSA), Department of Transportation.

ACTION: Notice of proposed rulemaking; correction.

SUMMARY: This document corrects the preamble to a proposed rule published in the Federal Register of December 16, 2002, regarding the establishment of corporate average fuel economy standards for light trucks manufactured in model years (MY) 2005 through 2007. This correction adds a request for the submission of additional written copies of comments directly to the agency to facilitate reviewing the comments and meeting the statutory deadline for issuance of the final rule.

FOR FURTHER INFORMATION CONTACT: Kenneth Katz, 202-366-0846.

Correction

In proposed rule FR Doc. 02-31522, beginning on page 77015 in the issue of December 16, 2002, make the following correction, in the SUPPLEMENTARY INFORMATION section. On page 77029 in the 1st column, add after 4th paragraph under the subject heading “How Do I Prepare and Submit Comments?” the following:

“In addition, given the statutory deadline for issuance of the final rule, we request that, for those comments of 4 or more pages in length, you send 10 additional copies, as well as one copy on computer disc, to: Mr. Kenneth Katz, Lead Engineer, Fuel Economy Division, Office of Planning and Consumer Standards, National Highway Traffic Safety Administration, 400 Seventh Street, SW., Washington, DC 20590. Electronic mail kkatz@nhtsa.dot.gov. We emphasize that this is not a requirement. However, we ask that you do this to aid us in expediting our review of all comments. The copy on computer disc may be in any format, although we would prefer that it be in Word 2000.”

Issued: December 24, 2002.
Noble N. Bowie,
Director, Office of Planning and Consumer Standards.

[FR Doc. 02-32944 Filed 12-26-02; 9:30 am]

BILLING CODE 4910-59-P